DEPARTMENT OF EDUCATION

Notice of Submission for OMB Review

AGENCY: Department of Education.

ACTION: Comment request.

SUMMARY: The Director, Information Collection Clearance Division, Regulatory Information Management Services, Office of Management invites comments on the submission for OMB review as required by the Paperwork Reduction Act of 1995 (Pub. L. 104-13).

DATES: Interested persons are invited to submit comments on or before April 27, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: March 22, 2011.
Darrin A. King,
Director, Information Collection Clearance Division, Regulatory Information Management Services, Office of Management.

Institute of Education Sciences

Type of Review: Revision.

Title of Collection: Early Childhood Longitudinal Study Kindergarten Class of 2010-11 (ECLS-K:2011) Fall First Grade Data Collection.

OMB Control Number: 1850-0750.

Agency Form Number(s): N/A.

Frequency of Responses: Annually.

Affected Public: Individuals or households.

Total Estimated Number of Annual Responses: 106,042.

Total Estimated Annual Burden Hours: 29,318.

Abstract: The Early Childhood Longitudinal Study, Kindergarten Class of 2010-11 (ECLS-K:2011) is a survey that focuses on children's early school experiences beginning with kindergarten and continuing through the fifth grade. It includes interviews with parents, teachers, school administrators, and non-parental care providers, as well as direct child assessments. This submission updates the active record for ECLS-K:2011 and seeks clearance for (1) recruitment materials and burden of recruitment for the Fall 2011 and Spring 2012 first grade data collections to (i) contact schools, school staff, and parents to remind them of the next waves of the ECLS-K 2011 study and (ii) recruit new schools to which ECLS-K 2011 kindergarteners have transferred; (2) track students for the Fall 2011 and Spring 2012 first grade data collections and the Spring 2013 and the optional Fall 2012 second grade data collections; and (3) conduct the Fall 2011 first grade national data collection. The National Center for Educational Statistics will use the recruitment materials already cleared for the kindergarten collection on 3/20/09, only updating them for the first grade collections, as well as the tracking methods described in the cleared Kindergarten package. Similarly, the instruments for the Fall 2011 first grade collection have been updated from the instruments used in the kindergarten 2010 round as well as the ECLS-K (1998-99) Fall first grade collection so as to assure that the items are grade-appropriate and capture information on summer learning.

Copies of the information collection submission for OMB review may be accessed from the RegInfo.gov Web site at http://www.reginfo.gov/public/do/PRAMain or from the Department's Web site at http://edicsweb.ed.gov, by selecting the “Browse Pending Collections” link and by clicking on link number 4552. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-7229 Filed 3-25-11; 8:45 am]

BILLING CODE 4000-01-P